DEPARTMENT OF THE TREASURY

Office of Foreign Assets Control

Notice of OFAC Sanctions Actions

AGENCY: Office of Foreign Assets Control, Treasury

ACTION: Notice.

SUMMARY: The Department of the Treasury's Office of Foreign Assets Control (OFAC) is publishing the names of five individuals that have been placed on OFAC's Specially Designated Nationals and Blocked Persons List based on OFAC's determination that one or more applicable legal criteria were satisfied. All property and interests in property subject to U.S. jurisdiction of these person are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On May 16, 2018, OFAC determined that the property and interests in property subject to U.S. jurisdiction of the following persons are blocked under the relevant sanctions authorities listed below.

Individuals

1. AL-KHALIL, Husayn (a.k.a. KHALIL, Hossein; a.k.a. KHALIL, Husain; a.k.a. KHALIL, Hussein), Lebanon; DOB 1955; POB Burj Al Barajinah, Beirut, Lebanon; Additional Sanctions Information—Subject to Secondary Sanctions Pursuant to the Hizballah Financial Sanctions Regulations; Gender Male; Political Adviser to the Secretary General of Hizballah (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, a person whose property and interests in property are blocked pursuant to E.O. 13224.

2. AL-SAYYID, Ibrahim Amin (a.k.a. “AL-AMIN, Ibrahim”; a.k.a. SAYYED, Ibrahim Amin), Lebanon; DOB 1953; POB Nabi Ayla, Lebanon; Additional Sanctions Information—Subject to Secondary Sanctions Pursuant to the Hizballah Financial Sanctions Regulations; Gender Male; Head of the Political Council of Hizballah (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, a person whose property and interests in property are blocked pursuant to E.O. 13224.

3. QASIM, Naim (a.k.a. KASSEM, Naim; a.k.a. QASSEM, Naim), Lebanon; DOB 1953; POB Kafr Fila, Lebanon; Additional Sanctions Information—Subject to Secondary Sanctions Pursuant to the Hizballah Financial Sanctions Regulations; Gender Male; Deputy Secretary General of Hizballah (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, a person whose property and interests in property are blocked pursuant to E.O. 13224.

4. YAZBAK, Muhammad (a.k.a. ASSAF, Hosein; a.k.a. YAZBECK, Mohammad; a.k.a. YAZBEK, Mohammad; a.k.a. YAZBIK, Muhammad), Lebanon; DOB 1950; POB Bodai, Lebanon; Additional Sanctions Information—Subject to Secondary Sanctions Pursuant to the Hizballah Financial Sanctions Regulations; Gender Male; Head of the Judicial Council of Hizballah (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, a person whose property and interests in property are blocked pursuant to E.O. 13224.

5. NASRALLAH, Hasan (a.k.a. NASRALLAH, Hasan Abd-al-Karim), Lebanon; DOB 31 Aug 1960; alt. DOB 31 Aug 1953; alt. DOB 31 Aug 1955; alt. DOB 31 Aug 1958; POB Al Basuriyah, Lebanon; Additional Sanctions Information—Subject to Secondary Sanctions Pursuant to the Hizballah Financial Sanctions Regulations; Gender Male; Passport 042833 (Lebanon); Secretary General of Hizballah (individual) [SDGT] [SDT] [SYRIA] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, a person whose property and interests in property are blocked pursuant to E.O. 13224.

Dated: May 16, 2018.
Andrea Gacki
Acting Director, Office of Foreign Assets Control.

[FR Doc. 2018-10841 Filed 5-21-18; 8:45 am]

BILLING CODE 4810-AL-P